DEPARTMENT OF LABOR

Employment and Training Administration

[TA-W-82,440]

Stone Age Interiors, Inc.; d/b/a Colorado Springs Marble and Granite Including On-Site Leased Workers From Express Employment Professionals Colorado Springs, Colorado; Notice of Revised Determination on Reconsideration

On June 7, 2013, the Department of Labor (Department) issued a Notice of Affirmative Determination Regarding Application for Reconsideration applicable to workers and former workers of Stone Age Interiors, Inc., d/b/a Colorado Springs Marble and Granite, Colorado Springs, Colorado (hereafter collectively referred to as either “Stone Age Interiors” or “subject firm”). The subject firm is engaged in activities related to the production of finished stone fabrication products. The workers are not separately identifiable by product line.

The subject worker group includes on-site leased workers from Express Employment Professionals.

Based on a careful review of previously-submitted information and additional information obtained during the reconsideration investigation, the Department determines that the petitioning worker group, including on-site leased workers, has met the eligibility criteria set forth in the Trade Act of 1974, as amended.

Section 222(a)(1) has been met because a significant number or proportion of the workers at Stone Age Interiors have become totally or partially separated, or are threatened with such separation.

Section 222(a)(2)(A)(i) has been met because Stone Age Interiors sales and/or production of finished stone fabrication products have decreased.

Section 222(a)(2)(A)(ii) has been met because aggregate imports of articles like or directly competitive with the finished stone fabrication products produced by Stone Age Interiors have increased during the relevant period.

Finally, Section 222(a)(2)(A)(iii) has been met because increased imports contributed importantly to the worker group separations and sales/production declines at Stone Age Interiors.

Conclusion

After careful review of previously-submitted facts and the additional facts obtained during the reconsideration investigation, I determine that workers of Stone Age Interiors, Inc., d/b/a Colorado Springs Marble and Granite, including on-site leased workers from Express Employment Professionals, Colorado Springs, Colorado, meet the worker group certification criteria under Section 222(a) of the Act, 19 U.S.C. 2272(a). In accordance with Section 223 of the Act, 19 U.S.C. 2273, I make the following certification:

All workers of Stone Age Interiors, Inc., d/b/a Colorado Springs Marble and Granite, including on-site leased workers from Express Employment Professionals, Colorado Springs, Colorado, who became totally or partially separated from employment on or after February 9, 2012, through two years from the date of this certification, and all workers in the group threatened with total or partial separation from employment on date of certification through two years from the date of certification, are eligible to apply for adjustment assistance under Chapter 2 of Title II of the Trade Act of 1974, as amended.

Signed in Washington, DC, this day of August 13, 2013.
Del Min Amy Chen,
Certifying Officer, Office of Trade Adjustment Assistance.

[FR Doc. 2013-20813 Filed 8-26-13; 8:45 am]

BILLING CODE 4510-FN-P